ENVIRONMENTAL PROTECTION AGENCY

40 CFR Part 300

[FRL-8186-7]

National Oil and Hazardous Substance Pollution Contingency Plan; National Priorities List Update

AGENCY: Environmental Protection Agency.

ACTION: Direct final notice of deletion of the Dixie Oil Processors, Inc. Superfund Site from the National Priorities List.

SUMMARY: The United States Environmental Protection Agency (EPA) Region 6 is publishing a direct final notice of deletion of the Dixie Oil Processors, Inc. Superfund Site (Site), located in Friendswood, Texas, from the National Priorities List (NPL). The NPL, promulgated pursuant to section 105 of the Comprehensive Environmental Response, Compensation, and Liability Act (CERCLA) of 1980, as amended, is appendix B of 40 CFR part 300, which is the National Oil and Hazardous Substances Pollution Contingency Plan (NCP). This direct final notice of deletion is being published by EPA with the concurrence of the State of Texas, through the Texas Commission on Environmental Quality (TCEQ), because EPA has determined that all appropriate response actions under CERCLA have been completed and, therefore, further remedial action pursuant to CERCLA is not appropriate.

DATES: This direct final notice of deletion will be effective August 21, 2006 unless EPA receives adverse comments by July 24, 2006. If adverse comments are received, EPA will publish a timely withdrawal of the direct final notice of deletion in the Federal Register informing the public that the deletion will not take effect.

ADDRESSES: Comments may be mailed to: Donn Walters, Community Outreach Team, U.S. EPA Region 6 (6SF-PO), 1445 Ross Avenue, Dallas, TX 75202-2733, (214) 665-6483 or 1-800-533-3508 (walters.donn@epa.gov).

Information Repositories: Comprehensive information about the Site is available for viewing and copying during central standard time at the Site information repositories located at: U.S. EPA Region 6 Library, 7th Floor, 1445 Ross Avenue, Suite 1200, Dallas, Texas 75202-2733, (214) 665-6424, Monday through Friday 9 a.m. to 12 p.m. and 1 p.m. to 4 p.m.; San Jacinto College, South Campus Library, 13735 Beamer Road, Houston, Texas 77089, (281) 992-3416, Monday through Thursday 8 a.m. to 9 p.m.; Friday 8 a.m. to 3 p.m.; Saturday 10 a.m. to 1 p.m.; Texas Commission on Environmental Quality (TCEQ), Central File Room Customer Service Center, Building E, 12100 Park 35 Circle, Austin, Texas 78753, (512) 239-2900, Monday through Friday 8 a.m. to 5 p.m.

FOR FURTHER INFORMATION CONTACT: John C. Meyer, Remedial Project Manager (RPM), U.S. EPA Region 6 (6SF-LP), 1445 Ross Avenue, Dallas, TX 75202-2733, (214) 665-6742 or 1-800-533-3508 (meyer.john@epa.gov).

SUPPLEMENTARY INFORMATION:

Table of Contents

I. Introduction

II. NPL Deletion Criteria

III. Deletion Procedures

IV. Basis for Site Deletion

V. Deletion Action

I. Introduction

The EPA Region 6 office is publishing this direct final notice of deletion of the Dixie Oil Processors, Inc. Superfund Site from the NPL.

The EPA identifies sites that appear to present a significant risk to public health or the environment and maintains the NPL as the list of those sites. As described in § 300.425(e)(3) of the NCP, sites deleted from the NPL remain eligible for remedial actions if conditions at a deleted site warrant such action.

Because EPA considers this action to be noncontroversial and routine, EPA is taking it without prior publication of a notice of intent to delete. This action will be effective August 21, 2006 unless EPA receives adverse comments by July 24, 2006 on this document. If adverse comments are received within the 30-day public comment period on this document, EPA will publish a timely withdrawal of this direct final notice of deletion before the effective date of the deletion and the deletion will not take effect. The EPA will, as appropriate, prepare a response to comments and continue with the deletion process on the basis of the notice of intent to delete and the comments already received. There will be no additional opportunity to comment.

Section II of this document explains the criteria for deleting sites from the NPL. Section III discusses procedures that EPA is using for this action. Section IV discusses the Dixie Oil Processors, Inc. Superfund Site and demonstrates how it meets the deletion criteria. Section V discusses EPA's action to delete the Site from the NPL unless adverse comments are received during the public comment period.

II. NPL Deletion Criteria

Section 300.425(e) of the NCP provides that releases may be deleted from the NPL where no further response is appropriate. In making a determination to delete a release from the NPL, EPA shall consider, in consultation with the State, whether any of the following criteria have been met:

i. Responsible parties or other persons have implemented all appropriate response actions required;

ii. All appropriate Fund-financed (Hazardous Substance Superfund Response Trust Fund) response under CERCLA has been implemented, and no further response action by responsible parties is appropriate; or

iii. The remedial investigation has shown that the release poses no significant threat to public health or the environment and, therefore, the taking of remedial measures is not appropriate.

Even if a site is deleted from the NPL, where hazardous substances, pollutants, or contaminants remain at the deleted site above levels that allow for unlimited use and unrestricted exposure, CERCLA section 121(c), 42 U.S.C. 9621(c), requires that a subsequent review of the site be conducted at least every five years after the initiation of the remedial action at the deleted site to ensure that the action remains protective of public health and the environment. If new information becomes available which indicates a need for further action, EPA may initiate remedial actions. Whenever there is a significant release from a site deleted from the NPL, the deleted site may be restored to the NPL without application of the hazard ranking system.

III. Deletion Procedures

The following procedures apply to deletion of the Site:

(1) The EPA consulted with TCEQ on the deletion of the Site from the NPL prior to developing this direct final notice of deletion.

(2) TCEQ concurred with deletion of the Site from the NPL.

(3) Concurrently with the publication of this direct final notice of deletion, a notice of the availability of the parallel notice of intent to delete published today in the “Proposed Rules” section of the Federal Register is being published in a major local newspaper of general circulation at or near the Site and is being distributed to appropriate Federal, state, and local government officials and other interested parties; the newspaper notice announces the 30-day public comment period concerning the notice of intent to delete the Site from the NPL.

(4) The EPA placed copies of documents supporting the deletion in the Site information repositories identified above.

(5) If adverse comments are received within the 30-day public comment period on this document, EPA will publish a timely notice of withdrawal of this direct final notice of deletion before its effective date and will prepare a response to comments and continue with the deletion process on the basis of the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting this Site from the NPL.

Site Location

The Dixie Oil Processors (DOP) Site is located approximately 20 miles southeast of Houston, Texas, in Harris County. The Site occupies approximately 26.6 acres. Portions of the Site occur both north and south of Dixie Farm Road and are designated as DOP North and DOP South. DOP North covers 19.0 acres and DOP South covers 7.6 acres.

Mud Gully, a flood control ditch and local tributary of Clear Creek, runs along the eastern boundary of DOP North and the western boundary of DOP South. The Brio Refining Superfund Site borders DOP to the northeast and an abandoned athletic field borders DOP North to the southwest.

Site History

Over the years, several companies conducted operations at the DOP site. Intercoastal Chemical Company (ICC) operated a copper recovery and hydrocarbon washing facility on the DOP North site from 1969 to 1978. A total of six surface impoundments were used by ICC to store wastewater containing copper prior to recovery and to treat wastewater prior to discharge. Wastewaters from the hydrocarbon washing operations were also discharged into one of the impoundments. During a two year period between 1975 and 1977, the impoundments were closed and decommissioned.

In 1978, DOP began operations on the south side of the site. Activities occurring on the site included regeneration of cuprous chloride catalyst; hydrocarbon washing to produce ethylbenzene, toluene, aromatic solvents, and styrene pitch; oil recovery; and blending and distilling residues from local chemical plants and refineries (mainly phenolic tank bottom tars and glycol cutter stock) to produce various petroleum products including fuel oil, creosote extender, and a molybdenum concentrate catalyst.

Active operations on the DOP site stopped in 1986. Approximately 6,000 cubic yards of contaminated soils were excavated in 1984 and disposed off-site.

Remedial Investigation and Feasibility Study (RI/FS)

A remedial investigation conducted by the potentially responsible parties (PRPs) began at the site in 1986. This investigation identified three potential sources of contamination: the contents of drums and tanks comprising the process facility, soils associated with the onsite waste pits (now closed-out), and contaminated groundwater. The investigation found approximately 107,351 cubic yards of contaminated soils and subsoils on the site, associated with six different pits. The contaminants of concern included ethylbenzene, hexachlorobenzene, and copper.

The risk assessment concluded that the site potentially poses four major risks to human health and the environment: ingestion of on-site soils, direct contact with on-site soils, inhalation of dust from the site, and ingestion of shallow ground water from the site.

Record of Decision

A Record of Decision (ROD) was issued for the DOP site by the EPA on March 31, 1988 selecting limited action and monitoring, including fluids stabilization and a site cover with institutional controls. In accordance with the requirements of the Unilateral Administrative Order, Docket Number 6-23-91, signed by the EPA on July 10, 1991, a group of PRPs known as the DOP Task Force was directed to design and implement the remedial action as specified in the ROD.

Response Actions

The remedy was broken into two phases for implementation. The Phase I activities included:

• Removal of surface contamination;

• Improvement of surface water controls;

• Reconstruction of Mud Gully;

• Revegetation and installation of security fencing.

Phase II activities included:

• Removal and off-site disposal of tank residuals;

• Dismantlement of the process tanks and drums;

• Disposal of process equipment.

Phase I field activities began on March 26, 1992. Surficial deposits of contamination were removed, stored in roll-off containers and sent off-site for disposal. Approximately 1750 tons of contaminated soils and sludges from storage tanks were sent off-site for disposal. All off-site facilities were in compliance with EPA's Off-Site Disposal Policy.

Phase II activities began in August 1992. This phase entailed removal of liquids and sludges stored in process vessels left on the site. Approximately 250,000 gallons of material were removed from the vessels and sent off-site for disposal. The vessels were removed and sent to a smelting facility.

The DOP Task Force notified EPA that Phase I and Phase II activities were completed on March 27, 1993. A pre-certification inspection was conducted by EPA on April 20, 1993. The DOP Task Force certified that the Remedial Action was complete in a letter dated April 27, 1993. The DOP Task Force prepared a Remedial Action Report that contained a certification by a Texas Professional Engineer that all the requirements of the Remedial Design were met. EPA approved the report on August 6, 1993.

Operation and Maintenance (O&M)

In July 1993, the DOP Task Force submitted a Monitoring, Operation and Maintenance (MO&M) Plan for the DOP site. The plan was revised in January 1999. The purpose of the MO&M Plan is to document procedures to be used to assess the long-term success of the site remedy while minimizing adverse natural or man-made impacts on the DOP site. The plan requires (i) monthly inspections and maintenance, (ii) a five-year review as required by the EPA, and (iii) semi-annual monitoring of the environmental media (soil, ground water, and air).

The DOP Task Force conducts monthly site inspections to identify any damage to the site facilities, and monitors the general health and integrity of the soil cover.

Since monitoring began in May 1993, the DOP Task Force has kept records of site activities and submitted them to the EPA on an annual basis. The reports include specific maintenance activities completed during the past year, dates that maintenance activities were performed, names of people and companies performing the maintenance activities, and any replacements or redesigns of deficient materials or equipment.

The institutional control plan for the Site was revised in February 2006 and included deed restrictions filed by the landowner in 2005. The deed restrictions provide long-term assurance of the protectiveness of the remedy by limiting the future uses of the site.

Five-Year Review

Consistent with section 121(c) of CERCLA and requirements of the OSWER Directive 9355.7-03B-P (“Comprehensive Five-Year Review Guidance”, June 2001), a five-year review is required at the Site. The Directive requires EPA to conduct statutory five-year reviews at sites where, upon attainment of ROD cleanup levels, hazardous substances remaining within restricted areas onsite do not allow unlimited use of the entire site.

Since hazardous substances remain onsite, this Site is subject to five-year reviews to ensure the continued protectiveness of the remedy. Based on the five-year results, EPA will determine whether human health and the environment continues to be adequately protected by the implemented remedy. Five-year reviews were completed on September 24, 1998 and September 4, 2003. The reviews found that the remedy remains protective of human health and the environment. The MO&M plan was revised in January 1999, and continues to be implemented by the DOP Task Force to ensure the remedy remains protective.

Community Involvement

Public participation activities have been satisfied as required in CERCLA section 113(k), 42 U.S.C. 9613(k), and CERCLA section 117, 42 U.S.C. 9617. Documents in the deletion docket which EPA relied on for recommendation of the deletion from the NPL are available to the public in the information repositories.

V. Deletion Action

The EPA, with concurrence of the State of Texas, has determined that all appropriate responses under CERCLA have been completed, and that no further response actions under CERCLA, other than O&M and five-year reviews, are necessary. Therefore, EPA is deleting the Site from the NPL.

Because EPA considers this action to be noncontroversial and routine, EPA is taking it without prior publication. This action will be effective August 21, 2006 unless EPA receives adverse comments by July 24, 2006. If adverse comments are received within the 30-day public comment period, EPA will publish a timely withdrawal of this direct final notice of deletion before the effective date of the deletion and it will not take effect. The EPA will prepare a response to comments and continue with the deletion process on the basis of the notice of intent to delete and the comments already received. There will be no additional opportunity to comment.

List of Subjects in 40 CFR Part 300

Environmental protection, Air pollution control, Chemicals, Hazardous substances, Hazardous waste, Intergovernmental relations, Penalties, Reporting and recordkeeping requirements, Superfund, Water pollution control, Water supply.

Dated: May 5, 2006.
Lawrence E. Starfield,
Deputy Regional Administrator, Region 6.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 1 of Appendix B to Part 300 is amended under Texas (“TX”) by removing the entry for “Dixie Oil Processors, Inc.”.

[FR Doc. E6-9748 Filed 6-21-06; 8:45 am]

BILLING CODE 6560-50-P